CONSUMER PRODUCT SAFETY COMMISSION

[Docket No. CPSC 2009-0073]

Submission for OMB Review; Comment Request—Virginia Graeme Baker Pool and Spa Safety Act; Compliance Form

AGENCY: Consumer Product Safety Commission.

ACTION: Notice.

SUMMARY: In the Federal Register of April 19, 2013 (76 FR 23546), the Consumer Product Safety Commission (CPSC or Commission) published a notice in accordance with provisions of the Paperwork Reduction Act of 1995 (44 U.S.C. Chapter 35), to announce the CPSC's intention to seek extension of an approval regarding a form used to verify whether pools and spas are in compliance with the Virginia Graeme Baker Pool and Spa Safety Act.

No comments were received in response to that notice. Therefore, by publication of this notice, the Commission announces that it has submitted to the Office of Management and Budget (OMB), a request for extension of approval of those collections of information, without change.

DATES: Fax comments to OMB not later than August 5, 2013.

ADDRESSES: OMB recommends that written comments be faxed to the Office of Information and Regulatory Affairs, OMB, Attn: CPSC Desk Officer, FAX: 202-395-6974, or emailed to oira_submission@omb.eop.gov. All comments should be identified by Docket No. CPSC-2009-0073. In addition, written comments also should be submitted at: http://www.regulations.gov, under Docket No. CPSC-2009-0073, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION: Request for Renewal of Approval of Collections of Information. Based on previous experience, CPSC staff estimates completion of approximately 97 pool inspections per year under the Virginia Graeme Baker Pool and Spa Safety Act. Investigators typically interview pool owners or operators or staff at the time of the inspection. In addition, investigators collect drain cover and sump certification documents as part of the pool inspection. Inspection of a pool or spa facility under the Virginia Graeme Baker Pool and Spa Safety Act generally requires approximately three hours. The annual total testing burden hours for such inspections thus are estimated at 291 (97 inspections × 3 hours per inspection). We estimate that hourly compensation for the time required for testing is $61.06 (U.S. Bureau of Labor Statistics, “Employer Costs for Employee Compensation,” December 2012, Table 9, total compensation for management, professional, and related workers in goods-producing industries: http://www.bls.gov/ncs). Accordingly, we estimate the annual cost to be $17,768 ($61.06 × 291).

Dated: July 1, 2013.
Todd A. Stevenson,
Secretary, Consumer Product Safety Commission.

[FR Doc. 2013-16122 Filed 7-3-13; 8:45 am]

BILLING CODE 6355-01-P